ENVIRONMENTAL PROTECTION AGENCY

[EPA-HQ-OW-2016-0404; FRL-8801-01-OMS]

Information Collection Request Submitted to OMB for Review and Approval; Comment Request; National Study of Nutrient Removal and Secondary Technologies: Publicly Owned Treatment Works (POTW) Screener Questionnaire (Renewal)

AGENCY: Environmental Protection Agency (EPA).

ACTION: Notice.

SUMMARY: The Environmental Protection Agency (EPA) has submitted an information collection request (ICR), National Study of Nutrient Removal and Secondary Technologies: Publicly Owned Treatment Works (POTW) Screener Questionnaire (EPA ICR Number 2553.03, OMB Control Number 2040-0294) to the Office of Management and Budget (OMB) for review and approval in accordance with the Paperwork Reduction Act. This is a proposed extension of the ICR, which is currently approved through July 31, 2021. Public comments were previously requested via the Federal Register on February 24, 2021 during a 60-day comment period. No comments were received. This notice allows for an additional 30 days for public comments. A fuller description of the ICR is given below, including its estimated burden and cost to the public. An agency may not conduct or sponsor and a person is not required to respond to a collection of information unless it displays a currently valid OMB control number.

DATES: Additional comments may be submitted on or before August 27, 2021.

ADDRESSES: Submit your comments, referencing Docket ID No. EPA-HQ-OW-2016-0404, online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Dr. Paul Shriner, Engineering and Analysis Division (4303T), Environmental Protection Agency, 1200 Pennsylvania Ave. NW, Washington, DC 20460; telephone number: 202-566-1076; email address: nutrient-removal-study@epa.gov.

SUPPLEMENTARY INFORMATION: Supporting documents are available in the public docket for this ICR that explain in detail the information that the EPA will be collecting. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Nutrient pollution remains the single greatest challenge to our Nation's water quality and presents a growing threat to public health and local economies—contributing to toxic harmful algal blooms, contamination of drinking water sources, and costly impacts on recreation, tourism and fisheries. The National Study of Nutrient Removal and Secondary Technologies, when completed, will provide a rich database of nutrient removal performance at secondary treatment POTWs nationwide, and will help POTWs understand the range of nutrient removal performance and identify opportunities to optimize nutrient removals based on data from their peers. It will also serve as a major new resource for stakeholders to evaluate the most cost-effective approaches to nutrient reduction at the watershed scale. EPA's Office of Water is collecting data to evaluate the nutrient removals and related technology performance of POTWs with conventional secondary treatment. Due to multiple delays, most notably postponements in fielding the screener questionnaire due to circumstances associated with the coronavirus (COVID-19) pandemic, EPA is proposing to renew the ICR for the screener questionnaire.

The screener questionnaire is a one-time data collection that solicits basic facility identification, characterization, and technical information necessary to develop the future detailed questionnaire. Questions include those necessary to identify and stratify the universe of POTWs and, within that population, the secondary treatment POTWs not designed specifically to remove nitrogen and phosphorus. EPA would prepare a separate ICR for subsequent phases of the study.

In this renewal EPA proposes three revisions to the currently approved screener questionnaire ICR and supporting statement. First, EPA has reduced the maximum number of respondents from 16,500 to 15,000 reflecting survey responses already received as of October 30, 2020. Second, EPA has made minor clarifying edits to the survey questions such as providing additional examples of certain technology classifications. Third, EPA is revising the respondent burden estimates. The original average burden estimate assumed it would take one hour to complete the registration process and three hours to complete the full questionnaire. EPA reviewed start and end times associated with questionnaires submitted online and found that the average time to complete the long version of the online questionnaire was 1.1 hours and the time to complete the short version was 26 minutes. EPA revised the average burden to 2.25 hours for the questionnaire and 15 minutes for registration (Questionnaire Section A) based on this information. EPA solicits comment on these proposed changes. A copy of the screener questionnaire is available at Docket ID No. EPA-HQ-OW-2016-0404 as part of this request for comments.

Form Numbers: None.

Respondents/affected entities: Approximately 15,000 POTWs that meet the definition under 40 CFR 403.3(q), 50 POTWs for site visits, and 100 state and/or small municipal association contacts.

Respondent's obligation to respond: Voluntary.

Estimated number of respondents: 12,000 (total).

Frequency of response: One-time data collection.

Total estimated burden: 8,747 hours (per year). Burden is defined at 5 CFR 1320.03(b).

Total estimated cost: $398,120 (per year), which includes $8,800 annualized capital or operation & maintenance costs.

Changes in Estimates: There is decrease of approximately 41,000 hours in the total estimated respondent burden compared with the ICR currently approved by OMB. This decrease is due to screener questionnaire responses already received, reduced number of total respondents, and replacement of EPA's estimated respondent burdens with the actual time respondents took to complete the screener questionnaire.

Courtney Kerwin,
Director, Regulatory Support Division.

[FR Doc. 2021-16089 Filed 7-27-21; 8:45 am]

BILLING CODE 6560-50-P